FEDERAL MARITIME COMMISSION

Sunshine Act Meeting

AGENCY HOLDING THE MEETING: Federal Maritime Commission.

TIME AND DATE: July 17, 2013; 10:00 a.m.

PLACE: 800 N. Capitol Street NW., First Floor Hearing Room, Washington, DC.

STATUS: The first portion of the meeting will be in Open Session and the remainder of the meeting will be in Closed Session.

MATTERS TO BE CONSIDERED:

Open Session

1. Briefing on Committee on Maritime Transportation System by Helen Brohl, Director, Executive Secretariat

2. Staff Briefing and Discussion of Inflation Adjustment of Civil Penalties

3. Staff Briefing on Service Contracts that Reference Freight Indices

Closed Session

1. Staff Briefing on Economic and Trade Conditions

2. Staff Briefing on Semi-Annual Meeting with Transpacific Stabilization Agreement Representatives

CONTACT PERSON FOR MORE INFORMATION: Karen V. Gregory, Secretary, (202) 523-5725.

Karen V. Gregory,
Secretary.

[FR Doc. 2013-16798 Filed 7-10-13; 11:15 am]

BILLING CODE 6730-01-P